DEPARTMENT OF COMMERCE

International Trade Administration

[A-588-815]

Correction to Notice of Initiation of Five-Year Sunset Review

AGENCY: Enforcement and Compliance, International Trade Administration, Department of Commerce.

FOR FURTHER INFORMATION CONTACT: Brenda E. Waters, AD/CVD Operations, Customs Unit, Enforcement and Compliance, International Trade Administration, U.S. Department of Commerce, 14th Street and Constitution Avenue NW., Washington, DC 20230; telephone: (202) 482-4735.

SUPPLEMENTARY INFORMATION: On November 1, 2016, the Department of Commerce (“Department”) published Initiation of Five-Year (“Sunset”) Review, 81 FR 75808 (November 1, 2016) in which the Department inadvertently listed the incorrect case number for Gray Portland Cement Clinker from Japan. The correct case number is A-588-815. This notice serves as a correction notice.

Dated: November 23, 2016.
Gary Taverman,
Associate Deputy Assistant Secretary for Antidumping and Countervailing Duty Operations.

[FR Doc. 2016-28859 Filed 11-30-16; 8:45 am]

BILLING CODE 3510-DS-P